NATIONAL SCIENCE FOUNDATION

Proposal Review Panel for Innovation and Technology Ecosystems; Notice of Meeting

In accordance with the Federal Advisory Committee Act (Pub. L. 92-463, as amended), the National Science Foundation (NSF) announces the following meeting:

Name and Committee Code: Proposal Review Panel for Innovation and Technology Ecosystems (#84685)—Michigan State University Site Visit.

Date and Time: September 11, 2023; 2:00 p.m.-6:30 p.m.; September 12, 2023; 8:30 a.m.-7:45 p.m. September 13, 2023; 8:00 a.m.-2:00 p.m.

Place: Douglas Meijer Medical Building—109 Michigan St NW, Grand Rapids, MI 49503 (Floors 4 & 7).

Tour Location: Kent County Recycling & Education Center—977 Wealthy Street SW, Grand Rapids, MI 49504.

Type of Meeting: Part-open.

Contact Persons: Michal Ziv-El, Program Director, National Science Foundation, 2415 Eisenhower Avenue, Alexandria, Virginia 22314; Telephone (703) 292-4926.

Purpose of Meeting: NSF site visit to provide advice and recommendations concerning the progress and future activities of the projects that are one year into two-year awards.

Agenda

September 11, 2023

2:00 p.m.-4:15 p.m.—Executive Sessions (Closed)

4:15 p.m.-6:30 p.m.—Tour of Kent County Recycling & Education Center (Open)

September 12, 2023

8:30 a.m.-7:45 p.m.—Executive Sessions (Closed)

September 13, 2023

8:00 a.m.-2:00 p.m.—Executive Sessions (Closed)

Reason for Closing: Topics to be discussed and evaluated during closed portions of the site review will include information of a proprietary or confidential nature, including technical information; and information on personnel. These matters are exempt under 5 U.S.C. 552b(c), (4) and (6) of the Government in the Sunshine Act.

Dated: August 17, 2023.
Crystal Robinson,
Committee Management Officer.

[FR Doc. 2023-18063 Filed 8-21-23; 8:45 am]

BILLING CODE 7555-01-P